DEPARTMENT OF COMMERCE

International Trade Administration

[A-475-840]

Forged Steel Fluid End Blocks From Italy: Preliminary Results and Rescission of Antidumping Duty Administrative Review in Part; 2020-2021

AGENCY: Enforcement and Compliance, International Trade Administration, Department of Commerce.

SUMMARY: The U.S. Department of Commerce (Commerce) preliminarily determines that Lucchini Mame Forge S.p.A. (Lucchini), a producer/exporter subject to this administrative review, made sales of forged steel fluid end blocks (fluid end blocks) at less than normal value. The period of review (POR) is July 23, 2020, through December 31, 2021. Interested parties are invited to comment on these preliminary results.

DATES: Applicable February 6, 2023.

FOR FURTHER INFORMATION CONTACT: Andre Gziryan, AD/CVD Operations, Office I, Enforcement and Compliance, International Trade Administration, U.S. Department of Commerce, 1401 Constitution Avenue NW, Washington, DC 20230; telephone: (202) 482-2201.

SUPPLEMENTARY INFORMATION:

Background

On January 29, 2021, Commerce published the antidumping duty order on fluid end blocks from Italy.¹ On March 9, 2022, Commerce published the notice of initiation of the administrative review of the antidumping duty order on fluid end blocks from Italy.² Commerce selected Lucchini for individual examination.³ On September 16, 2022, Commerce extended the time limit for these preliminary results to January 31, 2023, in accordance with section 751(a)(3)(A) of the Tariff Act of 1930, as amended (the Act).⁴ For a complete description of the events that followed the initiation of this review, see the Preliminary Decision Memorandum.⁵

¹ See Forged Steel Fluid End Blocks from the Federal Republic of Germany and Italy: Amended Final Antidumping Duty Determination for the Federal Republic of Germany and Antidumping Duty Orders, 86 FR 7528 (January 29, 2021) (Order).

² See Initiation of Antidumping and Countervailing Duty Administrative Reviews, 87 FR 13252 (March 9, 2022).

³ See Memorandum, “Forged Steel Fluid End Blocks from Italy 2020-2021: Respondent Selection,” dated March 23, 2022.

⁴ See Memorandum, “Forged Steel Fluid End Blocks from Italy: Extension of Deadline for Preliminary Results of Antidumping Duty Administrative Review; 2020-2021,” dated September 16, 2022.

⁵ See Memorandum, “Forged Steel Fluid End Blocks from Italy: Decision Memorandum for the Preliminary Results of Antidumping Duty Administrative Review; 2020-2021,” dated concurrently with, and hereby adopted by, this notice (Preliminary Decision Memorandum).

Scope of the Order

The merchandise subject to the Order are fluid end blocks from Italy, whether in finished or unfinished form, and which are typically used in the manufacture or service of hydraulic pumps. For a complete description of the scope of the Order, see the Preliminary Decision Memorandum.

Methodology

Commerce is conducting this review in accordance with section 751(a)(1)(B) of the Act. Export price and constructed export price are calculated in accordance with section 772 of the Act. Normal value is calculated in accordance with section 773 of the Act.

For a full description of the methodology underlying our conclusions, see the Preliminary Decision Memorandum. A list of the topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Rescission of Administrative Review, in Part

Pursuant to 19 CFR 351.213(d)(1), Commerce will rescind an administrative review, in whole or in part, if the parties that requested a review withdraw the request within 90 days of the date of publication of the notice of initiation. On May 6, 2022, the FEB Fair Trade Coalition, Ellwood Group (comprised of Ellwood City Forge Company, Ellwood Quality Steels Company, and Ellwood National Steel Company), and A. Finkl & Sons (collectively, the petitioners), withdrew their requests for review with respect to Metalcam S.p.A, IMER International S.p.A, Galperti Group, Mimest S.p.A, and P. Technologies S.r.L.⁶ Because the requests for review were timely withdrawn and no other parties requested a review of these companies, in accordance with 19 CFR 351.213(d)(1), Commerce is partially rescinding this review of the Order for these five companies.

⁶ See Petitioners' Letter, “Forged Steel Fluid End Blocks from Italy: Petitioners' Withdrawal of Request for 2020/2021 Administrative Review for Certain Entities,” dated May 6, 2022.

Preliminary Results of Review

Commerce preliminarily determines that the following estimated weighted-average dumping margin exists for the period July 23, 2020, through December 31, 2021:

Exporter/producer | Estimated weighted-average dumping margin (percent)
Lucchini Mame Forge S.p.A | 2.21

Assessment Rates

Upon completion of the administrative review, Commerce shall determine, and U.S. Customs and Border Protection (CBP) shall assess, antidumping duties on all appropriate entries covered by this review, pursuant to 19 CFR 351.212(b). For the companies for which we have rescinded this review, we intend to instruct CBP to assess antidumping duties on all appropriate entries at a rate equal to the cash deposit rate of estimated antidumping duties required at the time of entry, or withdrawal from warehouse, for consumption, during the POR, in accordance with 19 CFR 351.212(c)(1)(i). Commerce intends to issue assessment instructions to CBP for the rescinded companies no earlier than 35 days after the date of publication of the preliminary results of this administrative review in the Federal Register.

If the weighted-average dumping margin for Lucchini is not zero or de minimis (i.e., less than 0.50 percent) in the final results of this review, we intend to calculate an importer-specific assessment rate based on the ratio of the total amount of dumping calculated for each importer's examined sales and the total entered value of those same sales in accordance with 19 CFR 351.212(b)(1).⁷ If Lucchini's weighted-average dumping margin is zero or de minimis in the final results of review, or if an importer-specific assessment rate is zero or de minimis, Commerce intends to instruct CBP to liquidate appropriate entries without regard to antidumping duties.⁸ The final results of this administrative review shall be the basis for the assessment of antidumping duties on entries of merchandise covered by the final results of this review and for future deposits of estimated duties, where applicable.⁹

⁷ See Antidumping Proceedings: Calculation of the Weighted-Average Dumping Margin and Assessment Rate in Certain Antidumping Duty Proceedings: Final Modification, 77 FR 8101, 8103 (February 14, 2012).

⁸ Id., 77 FR at 8102-03; see also 19 CFR 351.106(c)(2).

⁹ See section 751(a)(2)(C) of the Act.

For entries of subject merchandise during the POR produced by Lucchini for which it did not know its merchandise was destined for the United States, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for merchandise exported by a company not covered in this review but covered in a prior segment of the proceeding, the cash deposit rate will continue to be the company-specific cash deposit rate published in the completed segment for the most recent period; (3) if the exporter is not a firm covered in this review, or the less-than-fair-value (LTFV) investigation, but the producer is, then the cash deposit rate will be the rate established in the completed segment for the most recent period for the producer of the merchandise; and (4) the cash deposit rate for all other producers or exporters will continue to be 7.33 percent, the all-others rate established in the LTFV investigation.¹¹ These cash deposit requirements, when imposed, shall remain in effect until further notice.

¹¹ See Order, 86 FR at 7530.

Disclosure and Public Comment

Commerce intends to disclose its calculations and analysis performed to interested parties in this preliminary determination within five days of any public announcement or, if there is no public announcement, within five days of the date of publication of this notice in accordance with 19 CFR 351.224(b).

Pursuant to 19 CFR 351.309(c)(1)(ii), interested parties may submit case briefs no later than 30 days after the date of publication of this notice. Rebuttal briefs, limited to issues raised in the case briefs, may be filed not later than seven days after the date for filing case briefs.¹² Note that Commerce has temporarily modified certain of its requirements for serving documents containing business proprietary information, until further notice.¹³ Parties who submit case or rebuttal briefs in this proceeding are encouraged to submit with each argument: (1) a statement of the issue; (2) a brief summary of the argument; and (3) a table of authorities.¹⁴

¹² See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹³ See Temporary Rule Modifying AD/CVD Service Requirements Due to COVID-19; Extension of Effective Period, 85 FR 41363 (July 10, 2020).

¹⁴ See 19 CFR 351.309(c)(2) and (d)(2); see also 19 CFR 351.303 (for general filing requirements).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in case and rebuttal briefs. If a request for a hearing is made, Commerce intends to hold the hearing at a time and date to be determined. An electronically filed hearing request must be received successfully in its entirety by Commerce's electronic records system, ACCESS, by 5:00 p.m. Eastern Time within 30 days after the date of publication of this notice.¹⁵

¹⁵ See 19 CFR 351.310(c); see also 19 CFR 351.303 (for general filing requirements).

Commerce intends to issue the final results of this administrative review, including the results of its analysis of the issues raised in any written briefs, no later than 120 days after the date of publication of this notice in the Federal Register, unless extended, pursuant to section 751(a)(3)(A).

Notification to Importers

This notice serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of doubled antidumping duties, and/or an increase in the amount of antidumping duties by the amount of the countervailing duties.

Notification to Interested Parties

We are issuing and publishing these results in accordance with sections 751(a)(1) and 777(i)(1) of the Act, and section 19 CFR 351.221(b)(4).

Dated: January 30, 2023.
Lisa W. Wang,
Assistant Secretary for Enforcement and Compliance.

Appendix—List of Topics Discussed in the Preliminary Decision Memorandum

I. Summary

II. Background

III. Scope of the Order

IV. Discussion of the Methodology

V. Currency Conversion

VI. Recommendation

[FR Doc. 2023-02386 Filed 2-3-23; 8:45 am]

BILLING CODE 3510-DS-P